DEPARTMENT OF COMMERCE

International Trade Administration

President's Advisory Council on Doing Business in Africa; Correction

AGENCY: International Trade Administration, Department of Commerce.

ACTION: Notice; correction.

SUMMARY: The International Trade Administration, Department of Commerce published a document in the Federal Register of February 25, 2019, concerning the notice of an opportunity to apply for membership on the President's Advisory Council on Doing Business in Africa. The document contained an incorrect date.

FOR FURTHER INFORMATION CONTACT: Ashley Bubna, 202-482-5205.

SUPPLEMENTARY INFORMATION:

Correction

In the Federal Register of February 25, 2019, in FR Doc. 2019-03171, on page 5988, in the first column, correct the Dates caption to read:

DATES: All applications for immediate consideration for appointment must be received by the Office of Africa by 5:00 p.m. Eastern Daylight Time (EDT) on March 25, 2019.

On page 5989, in the first column, fourth paragraph under SUPPLEMENTARY INFORMATION correct the caption to read: To be considered for membership, submit the following information by 5:00 p.m. EDT on March 25, 2019 to the email or mailing address listed in the ADDRESSES section.

Anthony Diaz,
Program Analyst.

[FR Doc. 2019-03612 Filed 2-28-19; 8:45 am]

BILLING CODE 3510-DR-P